FEDERAL COMMUNICATIONS COMMISSION

47 CFR Parts 15, 27, 54, 73 and 76

[MB Docket No. 07-148; FCC 08-56]

DTV Consumer Education Initiative

AGENCY: Federal Communications Commission.

ACTION: Final rule; announcement of effective date.

SUMMARY: In this document, the Commission announces that the Office of Management and Budget (OMB) has approved, for a period of six months under its emergency processing rules (5 CFR 1320.13), the information collection(s) associated with the Commission's 2008 Report and Order concerning DTV Consumer Education Initiative. This notice is consistent with the Report and Order, which stated that the Commission would publish a document in the Federal Register announcing the effective date of the rules.

DATES: Sections 15.124, 27.20, 73.674, 73.3526(e)(11)(iv) and 73.3527(e)(13), published at 73 FR 15431, March 24, 2008, are effective March 31, 2008; and Sections 54.418 and 76.1630, also published at 73 FR 15431, March 24, 2008, are effective April 30, 2008.

FOR FURTHER INFORMATION CONTACT: Lyle Elder, Lyle.Elder@fcc.gov or 202-418-2120.

SUPPLEMENTARY INFORMATION: This document announces that, on March 27, 2008, OMB approved, for a period of six months under its emergency processing rules (5 CFR 1320.13), the information collection requirements contained in the Commission's Report and Order concerning DTV Consumer Education Initiative, FCC 08-56, published at 73 FR 15431, March 24, 2008. The OMB Control Numbers that are assigned to these information collections are 3060-1115 and 3060-0214. The Commission publishes this notice as announcement of the effective date of the rules and announcement of OMB approval for information collections. If you have any comments on the burden estimates listed below, or how the Commission can improve the collections and reduce any burdens caused thereby, please contact Cathy Williams, Federal Communications Commission, Room 1-C823, 445 12th Street, SW., Washington, DC 20554. Please include the OMB Control Numbers, 3060-1115 and 3060-0214, in your correspondence. The Commission will also accept your comments via the Internet if you send them to PRA@fcc.gov.

Synopsis

As required by the Paperwork Reduction Act of 1995 (44 U.S.C. 3507), the FCC is notifying the public that it received OMB approval on March 27, 2008, for the information collection requirements contained in the Commission's rules at 47 CFR 15.124, 54.418, 27.20, 73.674, 73.3526(e)(11)(iv), 73.3527(e)(13) and 76.1630. The OMB Control Number assigned is 3060-1115 for all of the information collection requirements contained in 47 CFR 15.124, 54.418, 27.20, 73.674, and 76.1630. The OMB Control Number assigned is 3060-0214 for information collection requirements contained in 47 CFR 73.3526(e)(11)(iv) and 73.3527(e)(13). The total annual reporting burden for respondents for the collections contained in OMB Control Number 3060-1115 is estimated to be: 11,022 respondents; 70,026 responses; and a total annual burden hours of 156,069 hours; there is no annual cost associated with this information collection. The total annual recordkeeping burden for respondents for the collections contained in OMB Control Number 3060-0214 is estimated to be: 52,285 respondents; 52,285 responses; and a total annual burden hours of 1,831,706 hours; there is no cost associated with this information collection.

Under 5 CFR 1320, an agency may not conduct or sponsor a collection of information unless it displays a current, valid OMB Control Number.

No person shall be subject to any penalty for failing to comply with a collection of information subject to the Paperwork Reduction Act that does not display a valid OMB Control Number.

The foregoing notice is required by the Paperwork Reduction Act of 1995, Public Law 104-13, October 1, 1995, and 44 U.S.C. 3507.

Federal Communications Commission.
William F. Caton,
Deputy Secretary.

[FR Doc. E8-6683 Filed 3-28-08; 8:45 am]

BILLING CODE 6712-01-P